DEPARTMENT OF COMMERCE

Bureau of the Census

National Advisory Committee

AGENCY: Bureau of the Census, Department of Commerce.

ACTION: Notice of Advisory Committee charter renewal.

SUMMARY: The Bureau of the Census (U.S. Census Bureau) hereby gives notice that the Secretary of the U.S. Department of Commerce has determined that the charter renewal of the National Advisory Committee on Racial, Ethnic, and Other Populations (NAC) is necessary and in the public interest. The renewed charter can be found on the Census Advisory Committee website at the following URL link: https://www2.census.gov/cac/nac/nac-charter.pdf.

FOR FURTHER INFORMATION CONTACT: Tara Dunlop Jackson, Chief, Advisory Committee Branch, U.S. Census Bureau, 4600 Silver Hill Road, Room 8H177, Washington, DC 20233, 301-763-5222, tara.dunlop.jackson@census.gov.

SUPPLEMENTARY INFORMATION: The NAC advises the Census Bureau's Director on the full range of Census Bureau programs and activities. The NAC provides expertise from the following disciplines: Economic, housing, demographic, socioeconomic, linguistic, technological, methodological, geographic, and behavioral and operational variables affecting the cost, accuracy, and implementation of Census Bureau programs and surveys, including the decennial census.

The NAC will function solely as an advisory body and in compliance with provisions of the Federal Advisory Committee Act. Pursuant to subsection 9(c) of the Federal Advisory Committee Act, 5 U.S.C., App., as amended, copies of this charter were furnished to the Library of Congress and to the following committees of Congress:

• Senate Committee on Appropriations;

• Senate Committee on Commerce, Science and Transportation;

• Senate Committee on Finance;

• Senate Committee on Homeland Security and Governmental Affairs;

• House Committee on Appropriations; and,

• House Committee on Oversight and Government Reform.

Dated: April 26, 2018.
Ron S. Jarmin,
Associate Director for Economic Programs, Performing the Non-Exclusive Functions and Duties of the Director, Bureau of the Census.

[FR Doc. 2018-09281 Filed 5-1-18; 8:45 am]

BILLING CODE 3510-07-P